DEPARTMENT OF COMMERCE

Bureau of Economic Analysis

[Docket No. 140205104-4104-01]

BE-15: Annual Survey of Foreign Direct Investment in the United States

AGENCY: Bureau of Economic Analysis, Commerce.

ACTION: Notice of Reporting Requirements.

SUMMARY: By this Notice, the Bureau of Economic Analysis (BEA), Department of Commerce, is informing the public that it is conducting the mandatory survey titled BE-15, Annual Survey of Foreign Direct Investment in the United States. This survey is authorized by the International Investment and Trade in Services Survey Act.

SUPPLEMENTARY INFORMATION: This Notice constitutes legal notification to all United States persons (defined below) who meet the reporting requirements set forth in this Notice that they must respond to, and comply with, the survey. A completed report covering a reporting company's fiscal year ending during the previous calendar year is due by May 31 (or by June 30 for reporting companies that use BEA's eFile system). This notice is being issued in conformance with the rule BEA issued in 2012 (77 FR 24373) establishing guidelines for collecting data on international trade in services and direct investment through notices, rather than through rulemakings. Additional information about BEA's collection of data on international trade in services and direct investment can be found in the 2012 rule and the International Investment and Trade in Services Survey Act (22 U.S.C. 3101 et. seq.). The BE-15 survey forms and instructions are available on the BEA Web site at www.bea.gov/fdi.

Definitions

(a) United States, when used in a geographic sense, means the 50 States, the District of Columbia, the Commonwealth of Puerto Rico, and all territories and possessions of the United States.

(b) Foreign, when used in a geographic sense, means that which is situated outside the United States or which belongs to or is characteristic of a country other than the United States.

(c) Person means any individual, branch, partnership, associated group, association, estate, trust, corporation, or other organization (whether or not organized under the laws of any State), and any government (including a foreign government, the United States Government, a State or local government, and any agency, corporation, financial institution, or other entity or instrumentality thereof, including a government-sponsored agency).

(d) Business enterprise means any organization, association, branch, or venture that exists for profit making purposes or to otherwise secure economic advantage, and any ownership of any real estate.

Who Must Report

(a) Reports are required from each U.S. business enterprise in which a foreign person has a direct and/or indirect ownership interest of at least 10 percent of the voting stock if an incorporated business enterprise, or an equivalent interest if an unincorporated business enterprise, and that meets the additional conditions detailed in Form BE-15.

(b) Entities required to report will be contacted individually by BEA. Entities not contacted by BEA have no reporting responsibilities.

What To Report: The survey collects information on the operations of U.S. affiliates of foreign companies.

How To Report: Reports can be filed using BEA's electronic reporting system at www.bea.gov/efile. Copies of the survey forms and instructions, which contain complete information on reporting procedures and definitions, may be obtained at the BEA Web site given above. Form BE-15 inquiries can be made by phone to (202) 606-5615 or by sending an email to be12/15@bea.gov.

When To Report: A completed report covering a reporting company's fiscal year ending during the previous calendar year is due by May 31 (or by June 30 for reporting companies that use BEA's eFile system).

Paperwork Reduction Act Notice: This data collection has been approved by the Office of Management and Budget (OMB) in accordance with the Paperwork Reduction Act and assigned control number 0608-0034. An agency may not conduct or sponsor, and a person is not required to respond to, a collection of information unless it displays a valid control number assigned by OMB. Public reporting burden for this collection of information is estimated to average 19.5 hours per response. Send comments regarding this burden estimate to Director, Bureau of Economic Analysis (BE-1), U.S. Department of Commerce, Washington, DC 20230; and to the Office of Management and Budget, Paperwork Reduction Project 0608-0034, Washington, DC 20503.

Authority: 22 U.S.C. 3101-3108.

J. Steven Landefeld,
Director, Bureau of Economic Analysis.

[FR Doc. 2014-04444 Filed 2-27-14; 8:45 am]

BILLING CODE 3510-06-P